DEPARTMENT OF THE INTERIOR

National Park Service

Environmental Assessment for proposal to reconstruct the entrance station at Great Falls Park, Virginia

AGENCY: National Park Service, Interior.

ACTION: Availability of the Environmental Assessment for the reconstruction of the entrance station at Great Falls Park, Virginia.

SUMMARY: Pursuant to Council on Environmental Quality regulations and National Park Service policy, the National Park Service announces the availability of an Environmental Assessment for the reconstruction of the entrance station at Great Falls Park, a unit of the George Washington Memorial Parkway (GWMP). The existing entrance station is in major disrepair, has deficiencies with respect to accessibility, does not include a restroom facility, has unsafe pedestrian circulation patterns, and in its current form does not function to move incoming traffic through expeditiously, causing lengthy delays and long traffic backups. The Environmental Assessment examines several alternatives for reconstruction of the entrance station aimed to correct deficiencies with respect to improving access, providing a restroom and office/remit space for staff who work there, and providing better traffic flow into and out of the park. The National Park Service is soliciting comments on this Environmental Assessment. These comments will be considered in evaluating it and making decisions pursuant to the National Environmental Policy Act (NEPA).

DATES: The Environmental Assessment will remain available for public comment 30 days from the date of publication in the Federal Register. Written comments should be received no later than this date.

ADDRESSES: Comments on this Environmental Assessment should be submitted in writing to: Ms. Audrey F. Calhoun, Superintendent, George Washington Memorial Parkway, Turkey Run Park, McLean, Virginia 22101. The Environmental Assessment will be available for public inspection Monday through Friday, 8 a.m. through 4 p.m. at the Great Falls Park Visitor Center, Great Falls, Virginia; GWMP Headquarters, Turkey Run Park, McLean, Virginia; and at the following libraries: Dolly Madison Library, McLean, Virginia; Great Falls Library, Great Falls, Virginia; and Fairfax City Regional Library, Fairfax, Virginia.

SUPPLEMENTARY INFORMATION: The National Park Service proposes to construct a new accessible entrance station at Great Falls Park, Virginia, in replacement of the existing one. The new entrance station will correct the following:

1. The existing entrance station has deficiencies with respect to accessibility,

2. The existing entrance station does not provide a restroom facility for staff who work there,

3. The existing entrance station provides few security measures,

4. Pedestrian circulation around the existing building is currently unsafe for staff and visitors,

5. The existing entrance station is in major disrepair, and

6.Traffic trying to enter the park during high visitation periods, backs up on Old Dominion Drive, creating lengthy delays entering the park.

A related project will rehabilitate the existing roads and parking areas throughout the park. This includes minor road widening around the entrance station and the intersection of the entrance road with the lower parking lot access road. All interested individuals, agencies, and organizations are urged to provide comments on the Environmental Assessment. The National Park Service, in making a final decision regarding this matter, will consider all comments received by the closing date.

FOR FURTHER INFORMATION CONTACT: Mr. Daniel E. Sealy (703) 289-2531.

Audrey F. Calhoun,
Superintendent, George Washington Memorial Parkway.

[FR Doc. 02-8815 Filed 4-10-02; 8:45 am]

BILLING CODE 4310-70-P